DEPARTMENT OF THE INTERIOR

Fish and Wildlife Service

Interim Land Acquisition Priority System Criteria

AGENCY: Fish and Wildlife Service, Interior.

ACTION: Notice.

SUMMARY: We are announcing the availability of and opportunity to comment on our Interim Land Acquisition Priority System criteria. These interim criteria replace the criteria developed in 1987 and modified in 1992. We will use the interim criteria to set land acquisition priorities for projects funded under the Land and Water Conservation Fund beginning with the FY 2002 budget cycle.

DATES: Submit comments on or before June 30, 2000.

ADDRESSES: You may obtain copies of the Interim Land Acquisition Priority System package or submit comments on the interim criteria by any one of several methods.

You may obtain the document from the Division of Realty's internet site at http://realty.fws.gov/laps.htm.

You may mail or hand-deliver requests for copies or comments to Andrew French, LAPS Team Leader, Division of Realty, U.S. Fish and Wildlife Service, 300 Westgate Center Drive, Hadley, MA 01035.

You may send requests for copies or comments by electronic mail to Andrew_French@fws.gov. Please submit internet comments as an ASCII file avoiding the use of special characters and any form of encryption. Please also include “Attn: LAPS Comments” and your name and return address in your message.

You may fax requests for copies or comments to (413) 253-8480.

FOR FURTHER INFORMATION CONTACT: Andrew French, Team Leader, U.S. Fish and Wildlife Service, telephone (toll free) (877) 289-8495 (ext. 8590)

SUPPLEMENTARY INFORMATION: We implemented Land Acquisition Priority System Criteria in 1987 and revised the criteria in 1992. In 1993, the National Research Council appointed the Committee on Scientific and Technical Criteria for Federal Acquisition of Lands for Conservation. In their report, entitled “Setting Priorities for Land Conservation,” the committee affirmed the need for criteria by stating, “Each agency should develop individual criteria to rank its own acquisitions, because no single set of criteria will work to satisfy fully the different agency missions.” The interim criteria implement the National Wildlife Refuge System Improvement Act of 1997, which states, “the Mission of the System is to administer a national network of lands and waters for the conservation, management, and where appropriate, restoration of the fish, wildlife, and plant resources and their habitat within the United States for the benefit of present and future generations of Americans.”

Interim Land Acquisition Priority System Criteria

The purpose of the Land Acquisition Priority System is: (1) To document land acquisition needs and opportunities for the Fish and Wildlife Service nationwide; (2) to prioritize land acquisition projects submitted by our Regions; and (3) to serve as a starting point for the annual land acquisition budget request. The criteria are one of the “tools” that we use to build our annual land acquisition priorities among the most important habitat projects in the Nation. The criteria consist of four components: Fisheries and Aquatic Resources, Endangered and Threatened Species, Bird Conservation, and Ecosystem Conservation.

The Fisheries and Aquatic Resources Component addresses: (1) The status and trends of aquatic populations; (2) species diversity for trust resources; (3) critical habitats, including free-flowing rivers and watersheds; (4) wetland types and trend status; and (5) wetland losses by percent of historic wetland base by State.

The Endangered and Threatened Species Component is: (1) Recovery oriented; (2) considers habitat and biological community integrity as well as species occurrences; and (3) focuses on actual habitat use.

The Bird Conservation Component consists of: (1) Regionally developed lists of 70 species of management concern for each region as well as Hawaii and Puerto Rico; (2) a population importance index; and (3) an avian diversity index. We give emphasis to Nongame Species of Management Concern and the North American Wetlands Conservation Act Priority Waterfowl Species.

The Ecosystem Conservation Component addresses: (1) Biodiversity through distribution and abundance of rare communities; (2) ecosystem decline and protection of native diversity of threatened ecosystems; (3) landscape conservation by preserving large, intact habitats through partnerships; and (4) contributions to national plans and designations.

Comment Solicitation

We seek public comments on this interim document and will take into consideration comments and additional information received during the comment period. Our practice is to make comments, including names and home addresses of respondents, available for public review during regular business hours. Individual respondents may request that we withhold their home address from the record, which we will honor to the extent allowable by law. If you wish for us to withhold your name and/or address, you must state this prominently at the beginning of your comment. However, we will not consider anonymous comments. We will make all submissions from organizations or businesses, and from individuals identifying themselves as representatives or officials of organizations or businesses, available for public inspection in their entirety.

Authority

We issue this notice under the authority of the Land and Water Conservation Fund Act of 1995 as amended (16 U.S.C. 460l-4 et seq.) and the National Wildlife Refuge System Administration Act of 1966 as amended, (16 U.S.C. 668dd et seq.).

Dated: March 10, 2000.
Jamie Rappaport Clark,
Director, U.S. Fish and Wildlife Service.

[FR Doc. 00-6985 Filed 3-20-00; 8:45 am]

BILLING CODE 4310-55-P